DEPARTMENT OF COMMERCE

Foreign-Trade Zones Board

[B-70-2018]

Foreign-Trade Zone (FTZ) 52—Suffolk County, New York; Notification of Proposed Production Activity; LNK International, Inc. (Pharmaceutical Products), Hauppauge, New York

Suffolk County, New York, grantee of FTZ 52, submitted a notification of proposed production activity to the FTZ Board on behalf of LNK International, Inc. (LNK), located at sites in Hauppauge, New York. The notification conforming to the requirements of the regulations of the FTZ Board (15 CFR 400.22) was received on November 5, 2018.

The LNK facilities are located within Subzone 52B. The facilities are used for the production of over-the-counter (OTC) analgesic pharmaceutical products. Pursuant to 15 CFR 400.14(b), FTZ activity would be limited to the specific foreign-status materials and components and specific finished products described in the submitted notification (as described below) and subsequently authorized by the FTZ Board.

Production under FTZ procedures could exempt LNK from customs duty payments on the foreign-status components used in export production. On its domestic sales, for the foreign-status materials/components noted below, LNK would be able to choose the duty rates during customs entry procedures that apply to dosage form ibuprofen, aspirin and acetaminophen pharmaceutical products (duty-free). LNK would be able to avoid duty on foreign-status components which become scrap/waste. Customs duties also could possibly be deferred or reduced on foreign-status production equipment.

The components and materials sourced from abroad include: Ibuprofen active pharmaceutical ingredient; o-acetylsalicylic acid (aspirin) active pharmaceutical ingredient; diphenhydramine citrate; acetaminophen active pharmaceutical ingredient; caffeine; and, bulk mixture of acetaminophen (duty rates range from duty-free to 6.5%).

Public comment is invited from interested parties. Submissions shall be addressed to the Board's Executive Secretary at the address below. The closing period for their receipt is December 24, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: November 7, 2018.
Andrew McGilvray,
Executive Secretary.

[FR Doc. 2018-24797 Filed 11-13-18; 8:45 am]

BILLING CODE 3510-DS-P